DEPARTMENT OF COMMERCE

National Oceanic and Atmospheric Administration

[I.D. 071001C]

Pacific Fishery Management Council; Public Meetings

AGENCY: National Marine Fisheries Service (NMFS), National Oceanic and Atmospheric Administration (NOAA), Commerce.

ACTION: Notice of public meeting.

SUMMARY: A subcommittee of the Pacific Fishery Management Council's (Council) Ad Hoc Groundfish Strategic Plan Implementation Oversight Committee (SPOC) will hold a working meeting to further discuss full retention measures for groundfish in West Coast groundfish fisheries. Additionally, the Council’s Groundfish Management Team (GMT) will hold a working meeting. Both meetings are open to the public.

DATES: The SPOC subcommittee meeting will convene Monday, August 6, 2001, from 10 a.m. until 1 p.m. The GMT working meeting will begin Monday, August 6, 2001 at 1 p.m. and may go into the evening until business for the day is completed. The GMT meeting will reconvene from 8 a.m. to 5 p.m. Tuesday, August 7 through Friday, August 10 until business for the day is completed.

ADDRESSES: Both meetings will be held at the Pacific Fishery Management Council office, Conference Room, 7700 NE Ambassador Place, Suite 200, Portland, OR 97220; 503-326-6352.

Council address: Pacific Fishery Management Council, 7700 NE Ambassador Place, Suite 200, Portland, OR 97220-1384.

FOR FURTHER INFORMATION CONTACT: John DeVore, Staff Officer, Groundfish; 503-326-6352.

SUPPLEMENTARY INFORMATION: The primary purpose of the SPOC subcommittee meeting is to further discuss full retention of groundfish in West Coast fisheries as per implementation of the Council’s groundfish strategic plan. The primary purpose of the GMT meeting is to review the groundfish management measures in place for the fall months and prepare recommendations for Council consideration, respond to assignments relating to implementation of the Council’s groundfish strategic plan, consider technical aspects of draft stock rebuilding plans and analyses, review new groundfish stock assessments, and address other assignments relating to groundfish management.

Although non-emergency issues not contained in this agenda may come before the SPOC subcommittee or GMT for discussion, those issues may not be the subject of formal GMT action during this meeting. SPOC subcommittee and/or GMT action will be restricted to those issues specifically listed in this notice and any issues arising after publication of this notice that require emergency action under section 305 (c) of the Magnuson-Stevens Fishery Conservation and Management Act, provided the public has been notified of the SPOC subcommittee’s and/or GMT's intent to take final action to address the emergency.

Special Accommodations

The meetings are physically accessible to people with disabilities. Requests for sign language interpretation or other auxiliary aids should be directed to Ms. Carolyn Porter at 503-326-6352 at least 5 days prior to the meeting date.

Dated: July 10, 2001.
Richard W. Surdi,
Acting Director, Office of Sustainable Fisheries, National Marine Fisheries Service.

[FR Doc. 01-17730 Filed 7-13-01; 8:45 am]

BILLING CODE 3510-22-S